DEPARTMENT OF COMMERCE

National Oceanic and Atmospheric Administration

[I.D. 040706I]

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council); its Bycatch Committee; its Research Set-Aside Committee; its Protected Resources Committee; its Squid, Mackerel, Butterfish Committee; its Surfclam, Ocean Quahog, Tilefish Committee; its Ad Hoc Magnuson-Stevens Act (MSA) Reauthorization Committee; its Ecosystem Committee; and, its Executive Committee will hold public meetings.

DATES: The meetings will be held on Tuesday, May 2, 2006 through Thursday, May 4, 2006. See SUPPLEMENTARY INFORMATION for a meeting agenda.

ADDRESSES: The meetings will be held at the Sheraton Oceanfront Hotel, 36th & Atlantic Avenue, Virginia Beach, VA 23451, telephone: (757) 425-9000.

Council address: Mid-Atlantic Fishery Management Council, 300 S. New Street, Dover, DE 19904, telephone: (302) 674-2331.

FOR FURTHER INFORMATION CONTACT: Daniel T. Furlong, Executive Director, Mid-Atlantic Fishery Management Council; telephone: (302) 674-2331, extension 19.

SUPPLEMENTARY INFORMATION:

Tuesday, March 2, 2006

8:30 a.m. until 2 p.m.—As an integral part of the Standardized Bycatch Reporting Methodology (SBRM) Committee, the Council's Bycatch Committee will participate in a meeting of the SBRM Committee to review the Fishery Management Action Team's (FMAT) progress report on development of an SBRM Amendment and continue discussions related to issues to address in the SBRM Amendment.

1 p.m. to 5 p.m.—The Research Set- Aside (RSA) Committee will meet to review technically evaluated 2007 RSA project proposals and provide recommendations regarding which proposals best meet Council priorities for 2007.

2 p.m. to 3 p.m.—The Protected Resources Committee will meet to review the recent update of the Atlantic Large Whale Take Reduction Plan and consider establishing a Committee advisory panel.

3 p.m. to 4:30 p.m.—The Squid, Mackerel, Butterfish Committee will meet to review and update progress on Amendment 10, and initiate discussion regarding changes to 2007 specification.

7 p.m. to 8:30 p.m.—A previously noticed (March 28) scoping meeting for Amendment 15 to the Summer Flounder, Scup and Black Sea Bass Fishery Management Plan (FMP) will be held.

Wednesday, May 3, 2006

8:30 a.m. to 10 a.m.—The Surfclam, Ocean Quahog, Tilefish Committee will meet to review the status of stock update for tilefish, review the current tilefish management practice, review the Monitoring Committee's recommendation for 2006/07 fishing year and beyond regarding tilefish harvest level, develop and recommend tilefish harvest levels for 2006/07 and beyond for Council consideration and action.

10 a.m. to 11:30 a.m.—The Ad Hoc Magnuson-Stevens Act (MSA) Reauthorization Committee will meet from to review House versions of MSA Reauthorization Bills and develop comments for Congressional feedback.

11:30 a.m. to 12 noon—The Ecosystems Committee will meet to develop strategies to reduce bycatch mortality through the adoption and use of circle hooks in selected recreational fisheries.

1 p.m. to 3:30 p.m.—The Council will convene to conduct its regular business session to approve March 2006 Council meeting minutes, approve actions from the March meeting, and receive various reports.

3:30 to 4:30 p.m.—The Council will review Surfclam, Ocean Quahog, Tilefish Committee's recommendations regarding tilefish harvest levels for the 2006/07 fishing year and beyond, and adopt tilefish harvest levels for the 2006/07 fishing year and beyond.

Thursday, May 4, 2006

8 a.m. to 9 a.m.—The Executive Committee will meet to review actions taken at the April Northeast Regional Coordinating Council meeting.

9 a.m.—The Council will convene to receive a presentation by the U.S. Coast Guard on Rescue 21, receive Committee reports, and address any continuing or new business.

Although non-emergency issues not contained in this agenda may come before the Council and its Committees for discussion, these issues may not be the subject of formal Council or Committee action during this meeting. Council and Committee action will be restricted to those issues specifically listed in this notice and any issues arising after publication of this notice that require emergency action under section 305(c) of the Magnuson-Stevens Act provided the public has been notified of the Council's intent to take final actions to address such emergencies.

Special Accommodations

These meetings are physically accessible to people with disabilities. Requests for sign language interpretation or other auxiliary aids should be directed to M. Jan Saunders (302) 674-2331 extension 18, at least 5 days prior to the meeting date.

Dated: April 7, 2006.
Tracey L. Thompson,
Acting Director, Office of Sustainable Fisheries, National Marine Fisheries Service.

[FR Doc. E6-5465 Filed 4-12-06; 8:45 am]

BILLING CODE 3510-22-S